DEPARTMENT OF ENERGY

Federal Energy Regulatory Commission

[Docket Nos. ER06-615-000; ER07-1257-000; ER08-1113-000; ER08-1178-000; EL08-88-000; ER09-241-000]

California Independent System Operator Corporation; Notice of FERC Staff Attendance

June 10, 2009.

The Federal Energy Regulatory Commission (Commission) hereby gives notice that on June 11, 2009, members of its staff will participate in a market issues teleconference to be conducted by the California Independent System Operator (CAISO). The agenda and other documents for the teleconference are available on the CAISO's Web site, http://www.caiso.com.

Sponsored by the CAISO, the teleconference is open to all market participants, and Commission staff's attendance is part of the Commission's ongoing outreach efforts. The teleconference may discuss matters at issue in the above captioned dockets.

For further information, contact Saeed Farrokhpay at saeed.farrokhpay@ferc.gov; (916) 294-0322 or Maury Kruth at maury.kruth@ferc.gov, (916) 294-0275.

Kimberly D. Bose,
Secretary.

[FR Doc. E9-14196 Filed 6-16-09; 8:45 am]

BILLING CODE 6717-01-P